DEPARTMENT OF ENERGY

Federal Energy Regulatory Commission

Combined Notice of Filings

Take notice that the Commission has received the following Natural Gas Pipeline Rate and Refund Report filings:

Filings Instituting Proceedings

Docket Numbers: RP12-18-000.

Applicants: Transcontinental Gas Pipe Line Company.

Description: Transcontinental Gas Pipe Line Company, LLC submits tariff filing per 154.204: Non-Conforming Agreements—Patriots Energy Group—PSFT to be effective 9/3/2011.

Filed Date: 10/13/2011.

Accession Number: 20111013-5111.

Comment Date: 5 p.m. Eastern Time on Tuesday, October 25, 2011.

Docket Numbers: RP12-19-000.

Applicants: Transcontinental Gas Pipe Line Company.

Description: Transcontinental Gas Pipe Line Company, LLC submits tariff filing per 154.204: Update to List of Non-Conforming Service Agreements (PSFT) to be effective 11/13/2011.

Filed Date: 10/13/2011.

Accession Number: 20111013-5148.

Comment Date: 5 p.m. Eastern Time on Tuesday, October 25, 2011.

Docket Numbers: RP12-20-000.

Applicants: Millennium Pipeline Company, LLC.

Description: Millennium Pipeline Company, LLC submits tariff filing per 154.204: Negotiated Rate Service Agreements Filing to be effective 11/1/2011.

Filed Date: 10/13/2011.

Accession Number: 20111013-5153.

Comment Date: 5 p.m. Eastern Time on Tuesday, October 25, 2011.

Docket Numbers: RP12-21-000.

Applicants: Centra Pipelines Minnesota Inc.

Description: Centra Pipelines Minnesota Inc. submits tariff filing per 154.204: Revised Index of Shippers, to be effective 12/1/2011.

Filed Date: 10/14/2011.

Accession Number: 20111014-5032.

Comment Date: 5 p.m. Eastern Time on Wednesday, October 26, 2011.

Docket Numbers: RP12-22-000.

Applicants: Alliance Pipeline L.P.

Description: Alliance Pipeline L.P. submits tariff filing per 154.204: Auction October 2011 to be effective 11/1/2011.

Filed Date: 10/14/2011.

Accession Number: 20111014-5080.

Comment Date: 5 p.m. Eastern Time on Wednesday, October 26, 2011.

Docket Numbers: RP12-23-000.

Applicants: Liberty Gas Storage, LLC.

Description: Liberty Gas Storage, LLC submits tariff filing per 154.602: Liberty Gas Storage, LLC, Cancellation of FERC Gas Tariff to be effective 10/14/2011.

Filed Date: 10/14/2011.

Accession Number: 20111014-5108.

Comment Date: 5 p.m. Eastern Time on Wednesday, October 26, 2011.

Docket Numbers: RP12-24-000.

Applicants: Midwestern Gas Transmission Company.

Description: 2010-2011 Cashout Report of Midwestern Gas Transmission Company.

Filed Date: 10/14/2011.

Accession Number: 20111014-5117.

Comment Date: 5 p.m. Eastern Time on Wednesday, October 26, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 17, 2011.
Nathaniel J. Davis, Sr.,
Deputy Secretary.

[FR Doc. 2011-27384 Filed 10-21-11; 8:45 am]

BILLING CODE 6717-01-P